ENVIRONMENTAL PROTECTION AGENCY

[EPA-HQ-OAR-2011-0742; FRL-12009-01-OMS]

Agency Information Collection Activities; Submission to the Office of Management and Budget for Review and Approval; Comment Request; Air Pollution Regulations for Outer Continental Shelf (OCS) Activities (Renewal)

AGENCY: Environmental Protection Agency (EPA).

ACTION: Notice.

SUMMARY: The Environmental Protection Agency (EPA) has submitted an information collection request (ICR), Air Pollution Regulations for Outer Continental Shelf (OCS) Activities (EPA ICR Number 1601.11, OMB Control Number 2060-0249) to the Office of Management and Budget (OMB) for review and approval in accordance with the Paperwork Reduction Act. This is a proposed extension of the ICR, which is currently approved through May 31, 2024. Public comments were previously requested via the Federal Register on February 8, 2024, during a 60-day comment period. This notice allows for 30 days for public comments.

DATES: Comments may be submitted on or before July 1, 2024.

ADDRESSES: Submit your comments, referencing Docket ID No. EPA-HQ-OAR-2011-0742, online using www.regulations.gov (our preferred method), by email to a-and-r-docket@epa.gov, or by mail to: EPA Docket Center, Environmental Protection Agency, Mail Code 28221T, 1200 Pennsylvania Avenue NW, Washington, DC 20460. EPA's policy is that all comments received will be included in the public docket without change including any personal information provided, unless the comment includes profanity, threats, information claimed to be Confidential Business Information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Ben Garwood, Air Quality Policy Division, Office of Air Quality Planning and Standards, C504-03, U.S. Environmental Protection Agency, Post Office Box 12055, Research Triangle Park, NC 27711; telephone number: (919) 541-1358; fax number: (919) 541-4028; email address: garwood.ben@epa.gov.

SUPPLEMENTARY INFORMATION: This is a proposed extension of the ICR, which is currently approved through May 31, 2024. An agency may not conduct or sponsor and a person is not required to respond to a collection of information unless it displays a currently valid OMB control number.

Public comments were previously requested via the Federal Register on February 8, 2024, during a 60-day comment period (89 FR 8677). This notice allows for an additional 30 days for public comments. Supporting documents which explain in detail the information that the EPA will be collecting are available in the public docket for this ICR. The docket can be viewed online at https://www.regulations.gov or in person at the EPA Docket Center, WJC West, Room 3334, 1301 Constitution Avenue NW, Washington, DC. The telephone number for the Docket Center is (202) 566-1744. For additional information about EPA's public docket, visit https://www.epa.gov/dockets.

Abstract: Section 328 of the Clean Air Act (CAA) gives the EPA responsibility for regulating air pollution from OCS sources located offshore of the States along the Atlantic and Pacific Coasts (except the North Slope Borough of Alaska), and along the Gulf Coast off the State of Florida eastward of longitude 87 degrees and 30 minutes (i.e., off the coast of Florida). In general, these OCS sources must obtain OCS permits that comply with the New Source Review preconstruction permit program and title V operating permit program among other requirements, and then maintain ongoing compliance with their permit conditions. Industry respondents must prepare permit applications and, after receiving their permits, conduct testing, monitoring, recordkeeping and reporting as required by their permits. The EPA has delegated the authority to implement and enforce the OCS regulations to four local air pollution control agencies in California and three State air pollutions control agencies (Delaware Maryland, and Virginia). These agency respondents must review sources' permit applications and reports, issue permits, observe performance tests and conduct inspections to ensure that the sources off their coasts are meeting all the requirements that apply to them. The type and quantity of information required will depend on the circumstances surrounding the action but may include that required in applicability determinations, Notices of Intent (NOI), New Source Review (NSR) preconstruction permitting requirements, Part 70 Title V (Title V) operating permit requirements, New Source Performance Standards (NSPS) and some National Emission Standards for Hazardous Air Pollutants (NESHAP) promulgated under section 112 of the CAA. In addition, inner OCS sources could be subject to other requirements as those that would be applicable if the source were located in the corresponding onshore area (COA). Sources locating beyond 25 nautical miles from the State seaward boundary (outer OCS) are subject to Federal air quality requirements which could include the EPA's PSD preconstruction permit program, Part 71 Title V operating permit program, NSPS and NESHAP promulgated under section 112 of the CAA. State and local air pollution control agencies are usually requested to provide information concerning regulation of offshore sources and are provided opportunities to comment on the proposed determinations. The public is also provided an opportunity to comment on the proposed determinations.

Form numbers: None.

Respondents/affected entities: Entities potentially affected by this action are those that must apply for and obtain an OCS permit pursuant the OCS permit program. In addition, State and local agencies that have been delegated authority to implement and enforce the OCS permit program, which must review permit applications and issue permits, are affected entities.

Respondent's obligation to respond: Mandatory (CFR part 55).

Estimated number of respondents: 74 industrial facilities and 7 State and local permitting agencies.

Frequency of response: On occasion, as necessary.

Total estimated burden: 36,001 hours (per year). Burden is defined at 5 CFR 1320.03(b).

Total estimated cost: $3,755,783.00 (per year), includes $380,372 annualized capital or operation & maintenance costs.

Changes in estimates: There is a projected increase of 15,778 hours in the total estimated respondent burden compared with the ICR currently approved by OMB. This increase is primarily due to the projected number of OCS sources subject to the program mainly related to alternative energy sources including new wind power farms along the eastern seaboard of the United States.

Courtney Kerwin,
Director, Information Engagement Division.

[FR Doc. 2024-11806 Filed 5-29-24; 8:45 am]

BILLING CODE 6560-50-P